DEPARTMENT OF STATE

[Public Notice:12491]

Notice of Receipt of Request From the Government of Mongolia Under Article 9 of the 1970 UNESCO Convention on the Means of Prohibiting and Preventing the Illicit Import, Export and Transfer of Ownership of Cultural Property

AGENCY: Department of State.

ACTION: Public notice.

SUMMARY: Notice of request from Mongolia for cultural property protection.

FOR FURTHER INFORMATION CONTACT: Andrew Zonderman, Cultural Heritage Center, Bureau of Educational and Cultural Affairs: (202) 632-9935; culprop@state.gov; include “El Salvador” in the subject line.

SUPPLEMENTARY INFORMATION: The Government of Mongolia submitted a request to the Government of the United States on July 1, 2024, under Article 9 of the 1970 UNESCO Convention on the Means of Prohibiting and Preventing the Illicit Import, Export and Transfer of Ownership of Cultural Property. Mongolia's request seeks U.S. import restrictions on archaeological and ethnological materials representing Mongolia's cultural patrimony. The Cultural Heritage Center website will provide instructions for public comment and additional information on the request, including categories of material that may be included in import restrictions: https://eca.state.gov/cultural-property-advisory-committee-meeting-Sept-24-26-2-24. This notice is published pursuant to authority vested in the Assistant Secretary of State for Educational and Cultural Affairs and pursuant to 19 U.S.C. 2602(f)(1).

Allison R. Davis Lehmann,
Executive Director, Cultural Property Advisory Committee Bureau of Educational and Cultural Affairs, Department of State.

[FR Doc. 2024-18244 Filed 8-14-24; 8:45 am]

BILLING CODE 4710-05-P